DEPARTMENT OF THE INTERIOR

National Park Service

[NPS-WASO-NAGPRA-NPS0028224; PPWOCRADN0-PCU00RP14.R50000]

Notice of Inventory Completion: Oregon State Parks and Recreation Department, Salem, OR and Oregon State University, NAGPRA Office, Corvallis, OR

AGENCY: National Park Service, Interior.

ACTION: Notice.

SUMMARY: The Oregon State University, Department of Anthropology and NAGPRA Office, and the Oregon Parks and Recreation Department (OPRD) have completed an inventory of human remains and associated funerary objects, in consultation with the appropriate Indian Tribes or Native Hawaiian organizations, and have determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Oregon Parks and Recreation Department. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Oregon Parks and Recreation Department (OPRD) at the address in this notice by August 14, 2019.

ADDRESSES: Nancy Nelson, Oregon Parks and Recreation Department Archaeologist, 725 Summer Street NE, Suite C, Salem, OR 97301, telephone (503) 986-0578.

SUPPLEMENTARY INFORMATION: Notice is here given in accordance with the Native American Graves Protection and Repatriation Act (NAGPRA), 25 U.S.C. 3003, of the completion of an inventory of human remains and associated funerary objects under the control of the Oregon Parks and Recreation Department, Salem, OR, and in the custody of the Oregon State University, NAGPRA Office, Corvallis, OR. The human remains and associated funerary objects were removed from Lane County and Lincoln County, OR.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Oregon State Parks and Recreation Department and Oregon State University, Department of Anthropology and NAGPRA Office professional staff in consultation with representatives of the Confederated Tribes of Siletz Indians of Oregon (previously listed as the Confederated Tribes of the Siletz Reservation).

The Burns Paiute Tribe (previously listed as the Burns Paiute Tribe of the Burns Paiute Indian Colony of Oregon); Confederated Tribes of the Coos, Lower Umpqua and Siuslaw Indians; Confederated Tribes of the Grand Ronde Community of Oregon; Confederated Tribes of the Umatilla Indian Reservation (previously listed as the Confederated Tribes of the Umatilla Reservation, Oregon); Confederated Tribes of the Warm Springs Reservation of Oregon; Coquille Indian Tribe (previously listed as the Coquille Tribe of Oregon); Cow Creek Band of Umpqua Tribe of Indians (previously listed as the Cow Creek Band of Umpqua Indians of Oregon); and the Klamath Tribes (hereafter referred to as “The Invited Tribes”) were invited to consult, but did not participate.

History and Description of the Remains

In 1977, human remains representing, at minimum, two individuals were removed from Lane County, OR by Corvallis High School teacher Alan Taylor. Taylor was visiting Neptune State Park, and observed and removed a portion of a skull that was eroding out of a bluff just south of Bob Creek, Lane County, OR. He brought the human remains to Oregon State University's (OSU) anthropology department for analysis. Upon determining that the skull fragments were human, OSU received permission to salvage the rest of the human remains. No known individuals were identified. The seven associated funerary objects are one core, one blank, one biface and four utilized flakes.

In 1974, human remains representing, at minimum, four individuals were removed from site 35LNC14 at Seal Rock, Lincoln County, OR. The human remains had been known from earlier excavations in 1968, 1972, and 1973. No known individuals were identified. The one associated funerary object is a bird bone whistle.

In the 1970's, human remains representing, at minimum, one individual were removed from the Ona Beach area at Brian Booth State Park, Lincoln County, OR. Staff at the Oregon State Historic Preservation Office contacted the Anthropology Department, Oregon State University, and asked them to salvage human remains eroding out of the bank. There is no site number associated with the site. No known individuals were identified. The 33 associated funerary objects are 18 complete blue glass beads, 12 fragmented blue glass beads, and three metal nail fragments.

Linguistically, the earlier group at Bob Creek (35LA10), Seal Rock (35LNC14), and Brian Booth State Park were Yakonan/Alsean. Based on ethnographic information and consultation, the descendants of the Yakonan/Alsean speakers are members of The Confederated Tribes of Siletz Indians (CTSI). The CTSI is comprised of more than 30 Tribes and bands whose ancestral territory is from the lower Columbia River (including Chinookan territory on the north bank) to Upper Klamath, Shasta and Scott Rivers, and Smith River, Lake Earl and Crescent City areas of Northern California, including all the territory west of the summit of the Cascade Mountains in Oregon.

The CTSI Tribes were forcibly removed from their homelands by the U.S. Government in 1855. Under the Western Oregon Termination Act (passed by Congress in 1954 and finalized in 1956), Western Oregon Tribes were further removed from their lands, and were expected to reside either on the Siletz Reservation or the Grand Ronde Reservation. By contrast, the principal villages of the central Oregon coast peoples, such as the Yaquina and Alsea, had been relocated to the Siletz Reservation when it was established in 1855, and have been associated with the Siletz Reservation and the Confederated Tribes of Siletz Indians ever since that time. (The CTSI were officially restored to recognized status in 1977.)

Determinations Made by the Oregon Parks and Recreation Department

Officials of the Oregon Parks and Recreation Department have determined that:

• Pursuant to 25 U.S.C. 3001(9), the human remains described in this notice represent the physical remains of seven individuals of Native American ancestry.

• Pursuant to 25 U.S.C. 3001(3)(A), the 41 objects described in this notice are reasonably believed to have been placed with or near individual human remains at the time of death or later as part of the death rite or ceremony.

• Pursuant to 25 U.S.C. 3001(2), there is a relationship of shared group identity that can be reasonably traced between the Native American human remains and associated funerary objects and the Confederated Tribes of Siletz Indians of Oregon (previously listed as the Confederated Tribes of the Siletz Reservation).

Additional Requestors and Disposition

Lineal descendants or representatives of any Indian Tribe or Native Hawaiian organization not identified in this notice that wish to request transfer of control of these human remains and associated funerary objects should submit a written request with information in support of the request to Nancy Nelson, Oregon Parks and Recreation Department Archaeologist, 725 Summer Street NE, Suite C, Salem, OR 97301, telephone (503) 986-0578, by August 14, 2019. After that date, if no additional requestors have come forward, transfer of control of the human remains and associated funerary objects to the Confederated Tribes of Siletz Indians of Oregon (previously listed as the Confederated Tribes of the Siletz Reservation) may proceed.

The Oregon Parks and Recreation Department is responsible for notifying the Confederated Tribes of Siletz Indians of Oregon (previously listed as the Confederated Tribes of the Siletz Reservation) and The Invited Tribes that this notice has been published.

Dated: June 14, 2019.
Melanie O'Brien,
Manager, National NAGPRA Program.

[FR Doc. 2019-14932 Filed 7-12-19; 8:45 am]

BILLING CODE 4312-52-P